ENVIRONMENTAL PROTECTION AGENCY

[FRL-9920-84-OA]

Notification of a Joint Public Teleconference of the Chartered Science Advisory Board and the Board of Scientific Counselors and a Public Teleconference of the Chartered Science Advisory Board

AGENCY: Environmental Protection Agency.

ACTION: Notice.

SUMMARY: The Environmental Protection Agency (EPA) Science Advisory Board (SAB) Staff Office announces two public teleconferences: (1) A joint teleconference of the Chartered SAB and Board of Scientific Counselors (BOSC) to discuss a draft report providing advice on implementation of Office of Research and Development's (ORD's) strategic directions for research; and (2) a teleconference of the Chartered SAB to discuss information provided in the agency's Fall 2013 and Spring 2014 regulatory agenda and to review draft SAB reports on the EPA's draft web-based Report on the Environment and the EPA's draft Environmental Justice Technical Guidance.

DATES: The public teleconference for the Chartered SAB and the BOSC will be held on Tuesday, January 13, 2015, from 3:00 p.m. to 5:00 p.m. (Eastern Time) and the public teleconference for the Chartered SAB will be held on Friday, January 23, 2015, from 1:00 p.m. to 4:30 p.m. (Eastern Time).

ADDRESSES: The public teleconferences will be conducted by telephone only.

FOR FURTHER INFORMATION CONTACT: Any member of the public wishing to obtain information concerning the public teleconferences may contact Dr. Angela Nugent, Designated Federal Officer (DFO), EPA Science Advisory Board Staff Office (1400R), U.S. Environmental Protection Agency, 1200 Pennsylvania Avenue NW., Washington, DC 20460; by telephone/voice mail at (202) 564-2218 or at nugent.angela@epa.gov. General information about the SAB as well as any updates concerning the teleconferences announced in this notice may be found on the EPA Web site at http://www.epa.gov/sab.

SUPPLEMENTARY INFORMATION: The SAB was established pursuant to the Environmental Research, Development, and Demonstration Authorization Act (ERDDAA), codified at 42 U.S.C. 4365, to provide independent scientific and technical advice to the Administrator on the technical basis for Agency positions and regulations. The BOSC was established by the EPA to provide advice, information, and recommendations regarding the ORD research program. The SAB and BOSC are federal advisory committees chartered under the Federal Advisory Committee Act (FACA), 5 U.S.C., App. 2. Pursuant to FACA and EPA policy, notice is hereby given that: (1) The Chartered SAB and Chartered BOSC will hold a joint teleconference to discuss a draft report on future directions for ORD's research programs and (2) the Chartered SAB will hold a public teleconference for two purposes. The first purpose is to discuss information provided in the agency's Fall 2013 and Spring 2014 regulatory agenda, specifically planned actions and their supporting science. The second purpose is to review two draft SAB reports (on the EPA's draft web-based Report on the Environment and the EPA's draft Environmental Justice Technical Guidance). The SAB and BOSC will comply with the provisions of FACA and all appropriate SAB Staff Office procedural policies.

Joint SAB-BOSC teleconference on future directions for ORD's research programs. On January 13, 2015, the Chartered SAB and Chartered BOSC will discuss a draft report entitled Strategic Research Planning for 2016-2019: A Joint Report (11/20/14 Draft) of the SAB and ORD BOSC. The draft report was developed as a result of deliberations at a joint SAB-BOSC meeting on July 24-25, 2014. Information about this advisory activity can be found on the Web at http://yosemite.epa.gov/sab/sabproduct.nsf/fedrgstr_activites/ORD%20Strat%20Dir%202016-2019?OpenDocument.

Chartered SAB teleconference to discuss EPA planned actions and review two draft SAB reports. On January 23, 2015, the chartered SAB will hold a teleconference for two purposes. The first purpose is to discuss information provided in the agency's Fall 2013 and Spring 2014 regulatory agenda, specifically planned actions and their supporting science. The Chartered SAB will conclude discussions begun at an SAB public teleconference on June 11, 2014 (79 FR 27604-27605) regarding the Fall 2013 Unified (Regulatory) Agenda and Regulatory Plan. Information about this advisory activity can be found on the Web at http://yosemite.epa.gov/sab/sabproduct.nsf/fedrgstr_activites/SAB%20Fall%202013%20Agenda%20Disc?OpenDocument. The Chartered SAB will also discuss recommendations regarding the Spring 2014 Unified (Regulatory) Agenda and Regulatory Plan. Information about this advisory activity can be found on the Web at http://yosemite.epa.gov/sab/sabproduct.nsf/fedrgstr_activites/SAB%20Spring%202014%20Agenda%20Disc?OpenDocument.

The second purpose of the call on January 23, 2015, is for the SAB to review two draft SAB reports. Quality review is a key function of the chartered SAB. Draft reports prepared by SAB committees, panels, or work groups must be reviewed and approved by the chartered SAB before transmittal to the EPA Administrator. Consistent with FACA, the chartered SAB makes a determination in a public meeting about each draft report and determines whether the report is ready to be transmitted to the EPA Administrator.

The first Chartered SAB review will focus on a draft report on the scientific and technical merit of the EPA's draft Web-based Report on the Environment with particular attention to its adoption of a sustainability framework and new sustainability indicators, as well as the online format as a tool to communicate to scientists, policy makers and public audiences. The SAB undertook this review at the request of the EPA's Office of Research and Development. Information about this advisory activity can be found on the Web at http://yosemite.epa.gov/sab/sabproduct.nsf/fedrgstr_activites/ROE%202014?OpenDocument.

The second Chartered SAB review will focus on an SAB draft report reviewing the EPA's draft Environmental Justice Technical Guidance. The EPA developed the guidance to assist agency staff on how to assess disproportionate environmental and public health impacts of proposed rules and actions on minority, low income and indigenous populations in a variety of regulatory contexts. The EPA's Office of Policy requested the SAB's assessment of the appropriateness and scientific soundness of the technical guidance. Information about this advisory activity can be found on the Web at http://yosemite.epa.gov/sab/sabproduct.nsf/fedrgstr_activites/EJ%20Technical%20Guidance?OpenDocument.

Availability of Meeting Materials: The agendas and materials in support of these teleconferences will be available on the EPA Web site at http://www.epa.gov/sab in advance of the teleconferences.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Input from the public to the SAB will have the most impact if it provides specific scientific or technical information or analysis for SAB panels to consider or if it relates to the clarity or accuracy of the technical information. Members of the public wishing to provide comment should contact the Designated Federal Officer as noted above.

Oral Statements: In general, individuals or groups requesting an oral presentation at a teleconference will be limited to three minutes. Each person making an oral statement should consider providing written comments as well as their oral statement so that the points presented orally can be expanded upon in writing. Interested parties should contact Dr. Angela Nugent, DFO, in writing (preferably via email) at the contact information noted above one week before each of the teleconferences to be placed on the list of public speakers.

Written Statements: Written statements should be supplied to the DFO, preferably via email, at the contact information noted above one week before each of the teleconferences so that the information may be made available to the Board members for their consideration. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Angela Nugent at (202) 564-2218 or nugent.angela@epa.gov. To request accommodation of a disability, please contact Dr. Nugent preferably at least ten days prior to the teleconference to give EPA as much time as possible to process your request.

Dated: December 15, 2014.
Thomas H. Brennan,
Deputy Director, EPA Science Advisory Staff Office.

[FR Doc. 2014-30403 Filed 12-29-14; 8:45 am]

BILLING CODE 6560-50-P